NATIONAL AERONAUTICS AND SPACE ADMINISTRATION

48 CFR Parts 1835 and 1852

RIN 2700-AC64

NASA Federal Acquisition Regulation (FAR) Supplement—Research and Development Abstracts

AGENCY: National Aeronautics and Space Administration.

ACTION: Withdrawal of proposed rule.

SUMMARY: This action withdraws the proposed rule published Friday, October 31, 2003 (68 FR 62048—62049). NASA will issue internal guidance to automate the collection and transfer of Research and Development (R&D) abstracts to an appropriate central repository where they will be available for use by government agencies and other users.

DATES: October 18, 2005.

FOR FURTHER INFORMATION CONTACT: Monique Sullivan, NASA Headquarters, Contract Management Division, Washington, DC, (703) 553-2560, e-mail: Monique.sullivan-1@nasa.gov.

SUPPLEMENTARY INFORMATION: Background: In the proposed rule published Friday, October 31, 2003 (68 FR 62048—62049), NASA proposed to amend the NASA FAR Supplement (NFS) to include a requirement for the electronic submission of abstracts of the planned research to be conducted under contracts containing research and development (R&D) effort valued at over $25,000. The proposed rule added a new section 1835.003-70, NASA Research and Development (R&D) Abstracts, and a related clause, 1852.235-75, NASA Research and Development (R&D) Abstracts. The new clause provided for the collections of abstracts or summaries for NASA-funded-awards with R&D effort greater than $25,000. The requirements of section 207(g) of the E-Government Act of 2002 (Pub. L. 107-347) provide the basis for this change. Section 207(g) mandates the development and maintenance of a repository that integrates information on research and development funded by the Federal Government. In furtherance of this requirement, NASA had also established a Web-based database system to collect summaries or abstracts for all the Agency's procurements containing research and development effort valued over $25,000. A NASA Web site was further established for recipients of NASA R&D contracts to enter their abstract data. The proposed rule is withdrawn because the automation of the requirements of section 207(g) of the E-Government Act of 2002 (Pub. L. 107-347) voids the need for the proposed rule.

James A. Balinskas,
Acting Assistant Administrator for Procurement.

[FR Doc. 05-20846 Filed 10-17-05; 8:45 am]

BILLING CODE 7510-01-P